OFFICE OF PERSONNEL MANAGEMENT

Excepted Service

AGENCY: U.S. Office of Personnel Management (OPM).

ACTION: Notice.

SUMMARY: This notice identifies Schedule A, B, and C appointing authorities applicable to a single agency that were established or revoked from December 1, 2012, to December 31, 2012.

FOR FURTHER INFORMATION CONTACT: Senior Executive Resources Services, Senior Executive Resources and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes annually a consolidated listing of all Schedule A, B, and C appointing authorities current as of June 30 as a notice in the Federal Register.

Schedule A

The following Schedule A authority was approved in December.

Section 213.3106 Department of Defense

(b) Entire Department (including the Office of the Secretary of Defense and the Departments of the Army, Navy, and Air Force)—

(11) Not to exceed 3000 positions that require unique cyber security skills and knowledge to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure inter-dependency analysis. This authority may be used to make permanent, time-limited and temporary appointments in the following occupational series: Security (GS-0080), intelligence analysts (GS-0132), computer engineers (GS-0854), electronic engineers (GS-0855), computer scientists (GS-1550), operations research (GS-1515), criminal investigators (GS-1811), telecommunications (GS-0391), and IT specialists (GS-2210). Within the scope of this authority, the U.S. Cyber Command is also authorized to hire miscellaneous administrative and program (GS-0301) series when those positions require unique cyber security skills and knowledge. All positions will be at the General Schedule (GS) grade levels 09-15 or equivalent. No new appointments may be made under this authority after December 31, 2013.

Schedule B

No Schedule B authorities were approved in December 2012.

Schedule C

The following Schedule C appointing authorities were approved during December 2012.

Agency name | Organization name | Position title | Authorization No. | Effective date
DEPARTMENT OF COMMERCE | Assistant Secretary and Director General for United States and Foreign Commercial Service | Special Assistant | DC130015 | 12/13/2012
DEPARTMENT OF DEFENSE | Office of Assistant Secretary of Defense (Reserve Affairs) | Special Assistant (Reserve Affairs) | DD130022 | 12/12/2012
| Office of the Assistant Secretary of Defense (Asian and Pacific Security Affairs) | Special Assistant | DD130023 | 12/12/2012
| Office of the Assistant Secretary of Defense (International Security Affairs) | Special Assistant for International Security Affairs | DD130027 | 12/18/2012
DEPARTMENT OF HOMELAND SECURITY | U.S. Customs and Border Protection | Special Advisor | DM130024 | 12/12/2012
DEPARTMENT OF STATE | Office of the Chief of Protocol | Public Affairs Specialist | DS130020 | 12/3/2012
DEPARTMENT OF TRANSPORTATION | Secretary | Special Assistant for Scheduling and Advance | DT130008 | 12/10/2012

The following Schedule C appointing authorities were revoked during December 2012.

Agency | Organization | Position title | Authorization No. | Vacate date
DEPARTMENT OF COMMERCE | Office of the Under Secretary | Deputy Chief of Staff For USPTO | DC110109 | 12/7/12
| Office of Legislative and Intergovernmental Affairs | Legislative Assistant | DC120015 | 12/15/12
| Office of Public Affairs | Confidential Assistant | DC120082 | 12/29/12
DEPARTMENT OF EDUCATION | Office for Civil Rights | Special Assistant | DB100012 | 12/1/12
| Office of Elementary and Secondary Education | Deputy Assistant Secretary for Policy and Early Learning | DB120060 | 12/7/12
| Office of the Secretary | Special Assistant | DB090169 | 12/31/12
| Office of the Under Secretary | Director, White House Initiative on Educational Excellence for Hispanic Americans | DB120027 | 12/31/12
DEPARTMENT OF ENERGY | Office of the Under Secretary | Senior Advisor | DE110034 | 12/3/12
| Office of Public Affairs | Press Secretary | DE120022 | 12/3/12
DEPARTMENT OF HOMELAND SECURITY | Office of the Assistant Secretary for Policy | Executive Assistant | DM120066 | 12/31/12
DEPARTMENT OF JUSTICE | Civil Rights Division | Counsel | DJ110103 | 12/1/12
| Office of the Deputy Attorney General | Counsel | DJ110025 | 12/2/12
| Antitrust Division | Counsel | DJ100105 | 12/3/12
DEPARTMENT OF STATE | Office of the Chief of Protocol | Protocol Officer (Visits) | DS110100 | 12/14/12
DEPARTMENT OF TRANSPORTATION | Assistant Secretary for Governmental Affairs | Associate Director for Governmental Affairs | DT110046 | 12/14/12
| Secretary | Advance Specialist | DT120027 | 12/15/12
ENVIRONMENTAL PROTECTION AGENCY | Office of the Administrator | Policy Analyst | EP110022 | 12/1/12
OFFICE OF THE SECRETARY OF DEFENSE | Office of the Assistant Secretary of Defense (Special Operations/Low Intensity Conflict and Interdependent Capabilities) | Special Assistant | DD090172 | 12/1/12

Authority: 5 U.S.C. 3301 and 3302; E.O. 10577, 3 CFR, 1954-1958 Comp., p. 218.

John Berry,
Director, U.S. Office of Personnel Management.

[FR Doc. 2013-03144 Filed 2-11-13; 8:45 am]

BILLING CODE 6325-29-P